DEPARTMENT OF JUSTICE

Notice of Lodging of Consent Decree Pursuant to the Clean Water Act

Notice is hereby given that on March 30, 2000, a proposed Consent Decree in United States v. Morton International, Inc., Case No. 1:00-CV-220 was lodged in the United States District Court for the Western District of Michigan. The Complaint filed by the United States pursuant to sections 301 and 309 of the Clean Water Act (“Act”), 33 U.S.C. 1311 and 1319 alleges that during the period November, 1994 through January 1998, at its magnesium-based chemical manufacturing facility in Manistee, Michigan, Morton discharged into Manistee Lake effluent which failed to comply with the effluent limits of its National Pollutant Discharge Elimination System Permit, in violation of its Permit and the Act. Under the proposed Consent Decree Morton would pay a civil penalty of $75,500 and perform Supplemental Environmental Projects in settlement of the civil violations alleged in the Complaint.

The Department of Justice will receive for a period of thirty (30) days from the date of this publication comments concerning the proposed Consent Decree. Comments should be addressed to the Assistant Attorney General, Environment and Natural Resources Division, U.S. Department of Justice, P.O. Box 7611, Ben Franklin Station, Washington, DC 20044-7611, and should refer to United States v. Morton International, Inc., D.J. Ref. No. 90-5-1-1-06486.

The proposed Consent Decree may be examined at the United States Attorney for the Western District of Michigan, 330 Ionia Avenue, NW, 5th Floor, Grand Rapids, MI 49503 and the United States Environmental Protection Agency, Region 5, 77 West Jackson Blvd., Chicago, Illinois 60604. A copy of the Consent Decree may also be obtained by regular mail addressed to the Department of Justice Consent Decree Library, P.O. Box 7611, Ben Franklin Station, Washington, DC 20044. For a copy of the Consent Decree, please enclose a check in the amount of $8.00 (25 cents per page reproduction costs) payable to Consent Decree Library.

Joel M. Gross,
Chief, Environmental Enforcement Section, Environment and Natural Resources Division.

[FR Doc. 00-9741 Filed 4-18-00; 8:45 am]

BILLING CODE 4410-15-M